DEPARTMENT OF ENERGY

Federal Energy Regulatory Commission

Combined Notice of Filings

Take notice that the Commission has received the following Natural Gas Pipeline Rate and Refund Report filings:

Filings Instituting Proceedings

Docket Numbers: RP18-664-000.

Applicants: Horizon Pipeline Company, L.L.C.

Description: Penalty Revenue Crediting Report of Horizon Pipeline Company, L.L.C.

Filed Date: 3/29/18.

Accession Number: 20180329-5371.

Comments Due: 5 p.m. ET 4/10/18.

Docket Numbers: RP18-665-000.

Applicants: Natural Gas Pipeline Company of America.

Description: Penalty Revenue Crediting Report of Natural Gas Pipeline Company of America LLC.

Filed Date: 3/29/18.

Accession Number: 20180329-5372.

Comments Due: 5 p.m. ET 4/10/18.

Docket Numbers: RP18-666-000.

Applicants: Bison Pipeline LLC.

Description: Company Use Gas Annual Report of Bison Pipleine LLC.

Filed Date: 3/28/18.

Accession Number: 20180328-5289.

Comments Due: 5 p.m. ET 4/9/18.

Docket Numbers: RP18-667-000.

Applicants: Iroquois Gas Transmission System, L.P.

Description: Annual Fuel and Losses Retention Calculations of Iroquois Gas Transmission System, L.P.

Filed Date: 3/29/18.

Accession Number: 20180329-5373.

Comments Due: 5 p.m. ET 4/10/18.

Docket Numbers: RP18-668-000.

Applicants: Rockies Express Pipeline LLC.

Description: Annual Incidental Purchases and Sales Report of Rockies Express Pipeline LLC.

Filed Date: 3/30/18.

Accession Number: 20180330-5318.

Comments Due: 5 p.m. ET 4/11/18.

Docket Numbers: RP18-669-000.

Applicants: Gulf South Pipeline Company, LP.

Description: § 4(d) Rate Filing: Cap Rel Neg Rate Agmts (Pensacola 43993 to BP 49330 to 49345) to be effective4/1/2018.

Filed Date: 4/2/18.

Accession Number: 20180402-5121.

Comments Due: 5 p.m. ET 4/16/18.

Docket Numbers: RP18-670-000.

Applicants: Gulf South Pipeline Company, LP.

Description: § 4(d) Rate Filing: Cap Rel Neg Rate Agmts (Petrohawk 41455 releases eff 4-1-2018) to be effective4/1/2018.

Filed Date: 4/2/18.

Accession Number: 20180402-5122.

Comments Due: 5 p.m. ET 4/16/18.

Docket Numbers: RP18-671-000.

Applicants: Gulf Crossing Pipeline Company LLC.

Description: § 4(d) Rate Filing: Cap Rel Neg Rate Agmts (Newfield 18 releases eff 4-1-2018) to be effective4/1/2018.

Filed Date: 4/2/18.

Accession Number: 20180402-5123.

Comments Due: 5 p.m. ET 4/16/18.

Docket Numbers: RP18-672-000.

Applicants: Texas Gas Transmission, LLC.

Description: § 4(d) Rate Filing: Cap Rel Neg Rate Agmts (Gulfport 34939, 35446 to Eco-Energy 37068, 37069) to be effective 4/1/2018.

Filed Date: 4/2/18.

Accession Number: 20180402-5127.

Comments Due: 5 p.m. ET 4/16/18.

Docket Numbers: RP18-673-000.

Applicants: Guardian Pipeline, L.L.C.

Description: § 4(d) Rate Filing: Update Non-Conforming and Negotiated Rate Agreements—April 2018 to be effective 4/2/2018.

Filed Date: 4/2/18.

Accession Number: 20180402-5135.

Comments Due: 5 p.m. ET 4/16/18.

Docket Numbers: RP18-674-000.

Applicants: Viking Gas Transmission Company.

Description: § 4(d) Rate Filing: Update Non-Conforming and Negotiated Rate Agreements—April 2018 to be effective4/2/2018.

Filed Date: 4/2/18.

Accession Number: 20180402-5155.

Comments Due: 5 p.m. ET 4/16/18.

Docket Numbers: RP18-675-000.

Applicants: Equitrans, L.P.

Description: § 4(d) Rate Filing: Negotiated Capacity Release Agreements—4/1/2018 to be effective4/1/2018.

Filed Date: 4/2/18.

Accession Number: 20180402-5180.

Comments Due: 5 p.m. ET 4/16/18.

Docket Numbers: RP18-676-000.

Applicants: Algonquin Gas Transmission, LLC.

Description: § 4(d) Rate Filing: Negotiated Rates—Con Edison Releases eff 4-1-2018 Filing #3 to be effective4/1/2018.

Filed Date: 4/2/18.

Accession Number: 20180402-5186.

Comments Due: 5 p.m. ET 4/16/18.

Docket Numbers: RP18-677-000.

Applicants: Iroquois Gas Transmission System, L.P.

Description: § 4(d) Rate Filing: 040218 Negotiated Rates—Sierentz Global Merchants R-7845-04 to be effective4/3/2018.

Filed Date: 4/2/18.

Accession Number: 20180402-5200.

Comments Due: 5 p.m. ET 4/16/18.

Docket Numbers: RP18-678-000.

Applicants: Northern Natural Gas Company.

Description: § 4(d) Rate Filing: 20180402 Negotiated Rate to be effective 4/3/2018.

Filed Date: 4/2/18.

Accession Number: 20180402-5246.

Comments Due: 5 p.m. ET 4/16/18.

Docket Numbers: RP18-679-000.

Applicants: Transcontinental Gas Pipe Line Company.

Description: Request for Waiver of Section 284.13(d)(1) of the Commission's regulations of Transcontinental Gas Pipe Line Company, LLC.

Filed Date: 3/30/18.

Accession Number: 20180330-5338.

Comments Due: 5 p.m. ET 4/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2018.
Nathaniel J. Davis, Sr.,
Deputy Secretary.

[FR Doc. 2018-07138 Filed 4-6-18; 8:45 am]

BILLING CODE 6717-01-P